FEDERAL COMMUNICATIONS COMMISSION

Radio Broadcasting Services; AM or FM Proposals To Change the Community of License

AGENCY: Federal Communications Commission.

ACTION: Notice.

SUMMARY: The following applicants filed AM or FM proposals to change the community of license: Crawford, Charles E, Station NEW, Facility ID 191560, BMPH-20140929AAX, From Sonora, TX, To Christoval, TX; Everglades City Broadcasting Company, Inc., Station WBGY, Facility ID 47386, BPED-20140825ABL, From Naples, FL, To Everglades City, FL; Penfold Communications, Inc., Station KRTM, Facility ID 91840, BPED-20150113AAE, From Yucca Valley, CA, To Banning, CA; Rudex Broadcasting Limited Corporation, Station KSDT, Facility ID 36830, BP-20141124BHJ, From Hemet, CA, To Redlands, CA; Solid Rock Foundation, Station KBDW, Facility ID 176883, BPED-20141120AGW, From Wheeler, TX, To Lefors, TX; Sunrise Broadcasting, LLC, Station WILT, Facility ID 74159, BPH-20141119AAN, From Wilmington, NC, To Carolina Beach, NC.

DATES: The agency must receive comments on or before March 30, 2015.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-800-378-3160 or www.BCPIWEB.com.

Federal Communications Commission.
James D. Bradshaw,
Deputy Chief, Audio Division, Media Bureau.

[FR Doc. 2015-01596 Filed 1-27-15; 8:45 am]

BILLING CODE 6712-01-P